DEPARTMENT OF HOUSING AND URBAN DEVELOPMENT

[Docket No. FR-4817-N-06]

Notice of Proposed Information Collection for Public Comment—Contract for Inspection Services—Turnkey

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: June 6, 2003.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4249, Washington, DC 20410-5000.

FOR FURTHER INFORMATION CONTACT: Mildred M. Hamman, (202) 708-0614, extension 4128. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Contract for Inspection Services—Turnkey.

OMB Control Number: 2577-0007.

Description of the need for the information and proposed use: Public Housing Agencies (PHAs) use the Contract of Inspection Services—Turnkey to obtain the professional services of an architect or engineer to assist in the administration of a construction contract and to inspect the installation of the work. The information contained in the contract is used by the PHA and the architect/engineer for the following purposes: To define the legal obligations of both parties; to establish the specific work and its locations; to set forth the services which the architect/engineer must provide; to establish the fee to be paid for the work; to establish reporting requirements. The requirements are similar to contracts generally used in the construction industry.

Agency form numbers, if applicable: HUD-5084.

Members of affected public: State or Local Government.

Estimation of the total number of hours needed to prepare the information collection including number of respondents, frequency of response, and hours of response: Respondents are identified as projects. 135 projects × one contract per project annually, 1.5 hour average per contract, 200 total annual burden hours for reporting; 135 projects × .25 hours per projects for recordkeeping, 51 total annual burden hours for recordkeeping; total burden hours are 251.

Status of the proposed information collection: Reinstatement, without change.

Authority: Section 3506 of the Paperwork Reduction Act of 1995, 44 U.S.C. Chapter 35, as amended.

Dated: March 31, 2003.
Michael Liu,
Assistant Secretary for Public and Indian Housing.

BILLING CODE 4210-33-P

[FR Doc. 03-8278 Filed 4-4-03; 8:45 am]

BILLING CODE 4210-33-C